SOCIAL SECURITY ADMINISTRATION

[Docket No. SSA 2018-0029]

Privacy Act of 1974; Matching Program

AGENCY: Social Security Administration (SSA).

ACTION: Notice of a new matching program.

SUMMARY: In accordance with the provisions of the Privacy Act, as amended, this notice announces new matching program with the Centers for Medicare & Medicaid Services (CMS).

This agreement establishes the terms, and conditions, and safeguards under which CMS will disclose to SSA certain individuals' admission and discharge information for care received in a nursing care facility. SSA will use this data to administer the Supplemental Security Income program efficiently and to identify Special Veterans' Benefits beneficiaries who are no longer residing outside of the United States.

DATES: The deadline to submit comments on the proposed matching program is 30 days from the date of publication of this notice in the Federal Register. The matching program will be applicable on December 6, 2018 or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, G-401 WHR, 6401 Security Boulevard, Baltimore, MD 21235-6401, or emailing Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above.

SUPPLEMENTARY INFORMATION: None.

Mary Zimmerman,
Acting Executive Director, Office of Privacy and Disclosure, Office of the General Counsel.

Participating Agencies: SSA and CMS.

Authority for Conducting the Matching Program: The legal authority for the Supplemental Security Income (SSI) portion of the matching program is sections 1611(e)(1) and 1631(f) of the Act (42 U.S.C. 1382(e)(1) and 1383(f)), and 20 CFR 416.211. The legal authorities for the SVB portion of the matching program are sections 801 and 806(a) and (b) of the Act (42 U.S.C. 1001 and 1006(a) and (b)). Legal authority for CMS' disclosures under this matching program section 1631(f) of the Act (42 U.S.C. 1383(f)) and 45 CFR 164.512(a) Standard: Uses and disclosures required by law (Health Insurance Portability and Accountability Act of 1996 (HIPAA) Privacy Rule). The legal authority for the agencies to enter into this interagency transaction is the Economy Act, 31 U.S.C. 1535.

Purpose(s): The purpose of this matching program is to set forth the terms, conditions, and safeguards under which CMS will disclose to SSA certain individuals' admission and discharge information for care received in a nursing care facility. Nursing care facility, for purposes of this CMA, means certain facilities referenced in CMS' Long Term Care-Minimum Data Set System Number 09-70-0528 (LTC/MDS). SSA will use this information to administer SSI program efficiently and to identify SVB beneficiaries who are no longer residing outside of the United States.

Categories of Individuals: The individuals whose information is involved in this matching program are those individuals who were admitted or discharged from a nursing care facility and are SSI recipients, or SVB recipients who are no longer residing outside of the United States, or both.

Categories of Records: SSA will provide CMS with a monthly finder file, which will be extracted from SSA's SSI and SVB's records. The finder file will consist of data elements related to an individual's SSI/SVB eligibility. CMS will match the SSA finder file against data maintained pursuant to the Long Term Care-Minimum Data Set (LTC/MDS) systems of records.

System(s) of Records: SSA will provide CMS with a monthly finder file, which will be extracted from Supplemental Security Income Record and Special Veterans Benefits, 60-0103, last fully published on January 11, 2006 (71 FR 1830); and amended on December 10, 2007 (72 FR 69723) and July 3, 2018 (83 FR 31250-31251).

CMS will match the SSA finder file against data maintained pursuant to the Long Term Care-Minimum Data Set (LTC/MDS) (System Number 09 70 0528) SOR, last fully published on March 19, 2007 (72 FR 12801), amended on April 23, 2013 (78 FR 23938), May 29, 2013 (78 FR 32257), and February 14, 2018 (83 FR 6591); and submit its response file to SSA.

[FR Doc. 2018-25050 Filed 11-16-18; 8:45 am]

BILLING CODE 4191-02-P